DEPARTMENT OF TRANSPORTATION

Coast Guard

33 CFR Part 165

[COTP Charleston-01-101]

RIN 2115-AA97

Security Zones; Port of Charleston, SC

AGENCY: Coast Guard, DOT.

ACTION: Temporary final rule.

SUMMARY: The Coast Guard is closing a section of the Cooper River in the vicinity of U.S. Naval Weapons Station, Charleston, SC, to all vessel traffic until further notice. This security zone is needed for national security reasons following the recent events in New York City, Washington DC and Western Pennsylvania. Entry into this zone is prohibited, unless specifically authorized by the Captain of the Port, Charleston, South Carolina or his designated representative.

DATES: This regulation becomes effective at 12 noon on September 19, 2001 and will terminate at 12 noon on December 17, 2001.

ADDRESSES: Comments and material received from the public, as well as documents indicated in this preamble as being available in the docket, are part of [COTP Charleston 1-101] and are available for inspection or copying at Marine Safety Office Charleston, 196 Tradd Street, Charleston, SC 29401 between 7:30 a.m. and 4 p.m. Monday through Friday, except Federal holidays.

FOR FURTHER INFORMATION CONTACT: LTJG Erin Healey, Coast Guard Marine Safety Office Charleston, at (843) 724-7686.

SUPPLEMENTARY INFORMATION

Regulatory Information

We did not publish a notice of proposed rulemaking (NPRM) for this regulation. Under 5 U.S.C. 553(b)(B), the Coast Guard finds that good cause exists for not publishing a NPRM. Because of the events described below, publishing a NPRM and delaying its effective date would be contrary to the public interest since immediate action is needed to protect the public, ports and waterways of the United States. The Coast Guard will issue a broadcast notice to mariners and place Coast Guard vessels in the vicinity of these zones to advise mariners of the restriction.

For the same reasons, under 5 U.S.C. 553(d)(3), the Coast Guard finds that good cause exists for making this rule effective less than 30 days after publication in the Federal Register.

Background and Purpose

The Coast Guard is closing a section of the Cooper River in the vicinity of U.S. Naval Weapons Station, Charleston, SC, to all vessel traffic until further notice to protect the significant national security interests in this area. The Captain of the Port Charleston has closed the Cooper River to all vessel traffic from Cooper River Lighted Buoy 62 (LLNR 2930) in the vicinity of the entrance to Goose Creek to Cooper River Light 87 (LLNR 3135) near the entrance to Foster Creek until further notice. Goose Creek is also closed until further notice.

This security zone is needed for national security reasons following the recent terrorist attacks in New York City, Washington, DC and Western Pennsylvania, particularly the attack on United States military interests in Washington, DC. There will be Coast Guard and naval patrol vessels on scene to monitor traffic through these areas. Entry into these security zones is prohibited, unless specifically authorized by the Captain of the Port, Charleston, South Carolina.

The Coast Guard has met with members of the waterway community to discuss this closure. Vessels may be allowed to enter the zone with the authorization of the Coast Guard Captain of the Port. Vessels wishing to transit the security zone are encouraged to contact the Captain of the Port as soon as possible to request this authorization. This security zone only slightly extends the existing restricted area for this facility found in 33 CFR 334.460.

Regulatory Evaluation

This rule is not a significant regulatory action under section 3(f) of Executive Order 12866, Regulatory Planning and Review, and does not require an assessment of potential costs and benefits under section 6(a)(3) of that order. The Office of Management and Budget has not reviewed it under that order. It is not significant under the regulatory policies and procedures of the Department of Transportation (DOT) (44 FR 11040; February 26, 1979).

Small Entities

Under the Regulatory Flexibility Act (5 U.S.C. 601-612), the Coast Guard considered whether this rule would have a significant economic effect upon a substantial number of small entities. “Small entities” include small businesses, not-for-profit organizations that are independently owned and operated and are not dominant in their fields, and governmental jurisdictions with populations of less than 50,000.

This rule may affect the following entities, some of which may be small entities: the owners or operators of vessels intending to transit a portion of the Cooper River in the vicinity of U.S. Naval Weapons Station, Charleston, SC. The Coast Guard preliminary review indicates this temporary rule will not have a significant economic impact on a substantial number of small entities under 5 U.S.C. 605(b) because small entities may be allowed to enter on a case by case basis with the authorization of the Captain of the Port.

Assistance for Small Entities

Under section 213(a) of the Small Business Regulatory Enforcement Fairness Act of 1996 (Public Law 104-121), we offer to assist small entities in understanding the rule so that they can better evaluate its effects on them and participate in the rulemaking process. If the rule will affect your small business, organization, or government jurisdiction and you have questions concerning its provisions or options for compliance, please contact the person listed under FOR FURTHER INFORMATION CONTACT for assistance in understanding this rule.

Small businesses may send comments on the actions of Federal employees who enforce, or otherwise determine compliance with, Federal regulations to the Small Business and Agriculture Regulatory Enforcement Ombudsman and the Regional Small each agency's responsiveness to small business. If you wish to comment on actions by employees of the Coast Guard, call 1-888-REG-FAIR (1-888-734-3247).

Collection of Information

This rule calls for no new collection of information requirements under the Paperwork Reduction Act (44 U.S.C. 3501-3520).

Federalism

A rule has implication for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Environmental

The Coast Guard preliminary review indicates this temporary rule is categorically excluded from further environmental documentation under Figure 2-1, paragraph 34(g) of Commandant Instruction M16475.lD. The environmental analysis and Categorical Exclusion Determination will be prepared and submitted after establishment of this temporary security zone, and will be available in the docket. This temporary rule protects the Navy facility, the public, and the waterways of the United States. The Categorical Exclusion Determination will be made available in the docket for inspection or copying where indicated under ADDRESSES.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationships between the Federal Government and Indian tribes, or on the distribution of power and responsibilities between the Federal Government and Indian tribes.

Energy Effects

We have analyzed this rule under Executive Order 13211, Actions Concerning Regulations That Significantly Affect Energy Supply, Distribution, or use. We have determined that it is not a “significant energy action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reports and recordkeeping requirements, Security measures, Waterways.

For the reasons discussed in the preamble, the Coast Guard amends 33 CFR part 165, as follows:

PART 165—[AMENDED]

1. The authority citation for Part 165 continues to read as follows:

Authority: 33 U.S.C. 1231; 50 U.S.C. 191, 33 CFR 1.05-1(g), 6.04-1, 6.04-6, 160.5; 49 CFR 1.46.

2. A new temporary § 165.T07-101 is added to read as follows:

§ 165.T07-101 Security Zone; Cooper River, Charleston, South Carolina.

(a) Regulated Area. The following closed waters are encompassed in the security zone for this section: Captain of the Port Charleston, South Carolina has closed the Cooper River to all vessel traffic from Cooper River Lighted Buoy 62 (LLNR 2930) in the vicinity of the entrance to Goose Creek to Cooper River Light 87 (LLNR 3135) near the entrance to Foster Creek. Goose Creek is also closed.

(b) Regulations. In accordance with the general regulations in § 165.33 of this part, entry into this zone is prohibited except as authorized by the Captain of the Port, or a Coast Guard commissioned, warrant, or petty officer designated by him. The Captain of the Port will notify the public of any changes in the status of this zone by Marine Safety Radio Broadcast on VHF Marine Band Radio, Channel 13 and 16 (157.1 MHz).

(c) Dates. This section becomes effective at 12 noon on September 19, 2001 and will terminate at 12 noon on December 17, 2001. The Coast Guard will publish a separate document in the Federal Register announcing any earlier termination of this rule.

Dated: September 19, 2001.
G. W. Merrick,
Captain, U.S. Coast Guard, Captain of the Port.

[FR Doc. 01-24425 Filed 9-27-01; 8:45 am]

BILLING CODE 4910-15-U